DEPARTMENT OF THE INTERIOR

Fish and Wildlife Service

Availability of Proposed Monitoring Plan for American Peregrine Falcons in the United States for Review and Comment

AGENCY: Fish and Wildlife Service, Interior.

ACTION: Notice of document availability.

SUMMARY: The Endangered Species Act requires that the Service implement a system, in cooperation with the States, to monitor effectively for at least 5 years, the status of all species that have been recovered and no longer need protection of the ESA. The American peregrine falcon (Falco peregrinus anatum) was removed from the List on August 25, 1999, due to recovery. We, the U.S. Fish and Wildlife Service (Service), are requesting public comments on the proposed monitoring plan for the American peregrine falcon in the United States.

DATES: Comments from all interested parties on the proposed American peregrine falcon monitoring plan must be received on or before August 30, 2001.

ADDRESSES: Comments and other information concerning the proposed American peregrine falcon monitoring plan should be sent to Robert Mesta, Sonoran Joint Venture Coordinator, Office of Migratory Birds, U.S. Fish and Wildlife Service, 12661 E. Broadway Blvd. Tucson, Arizona 85748 (facsimile (520) 258-7238, phone (520) 258-7227). Comments and materials received will be available for public inspection, by appointment, during normal business hours at the above address. A copy of the draft plan is available upon request from Robert Mesta at (520) 258-7227, or Chief, Division of Consultation, Habitat Conservation Plans, Recovery, and State Grants at (703) 358-2061. The draft plan is also available through the internet at http://endangered.fws.gov/recovery/docs/peregrine_monitoring.pdf.

SUPPLEMENTARY INFORMATION: Background

Section 4(g)(1) of the Endangered Species Act of 1973, as amended (16 U.S.C. 1531 et seq.) (ESA), requires that we implement a plan, in cooperation with the States, to effectively monitor for not less than 5 years, the status of all species that have been recovered and delisted. In order to meet the ESA's monitoring requirement, and to facilitate the efficient collection of data, a sampling method capable of assessing the population status of the American peregrine falcon (Falco peregrinus anatum) will be implemented.

The proposed American peregrine falcon monitoring plan was developed in cooperation with State resource agencies, recovery team members, and interested scientists, and will be carried out in collaboration with Federal, State, and private cooperators. The proposed American peregrine falcon monitoring plan will start in the spring of 2002. Surveys will be conducted every 3 years for a total of five surveys. Monitoring will include the collection of information on the population trends and nesting success. At the end of each triennial monitoring we will review all available information to determine the state of the falcon.

The final delisting rule was published on August 25, 1999 (64 FR 46542). The final delisting rule also removed designated critical habitat for the American peregrine falcon, and the designation of endangered due to similarity of appearance for any free-flying peregrine falcons within the 48 conterminous United States. Available data indicated that this species had recovered following Environmental Protection Agency restrictions on organochlorine pesticides in the United States and Canada, and also due to implementation of successful management activities.

Public Comments Solicited

We request comments on the proposed American peregrine falcon monitoring plan. All comments received by the date specified above will be considered prior to approval of this plan.

Authority

The authority for this action is the Endangered Species Act of 1973, as amended (16 U.S.C. 1531 et seq.).

Dated: July 13, 2001.
Rowan W. Gould,
Acting Regional Director, Fish and Wildlife Service, Region 1, Portland, Oregon.

[FR Doc. 01-18964 Filed 7-30-01; 8:45 am]

BILLING CODE 4310-55-P